DEPARTMENT OF AGRICULTURE

Food and Nutrition Service

Agency Information Collection Activities: Proposed Collection; Comment Request—WIC Breastfeeding Peer Counseling Study

AGENCY: Food and Nutrition Service (FNS), USDA.

ACTION: Notice.

SUMMARY: In accordance with the Paperwork Reduction Act of 1995, this notice invites the general public and other public agencies to comment on the proposed collection of data for the second phase of the WIC Breastfeeding Peer Counseling Study. The first phase of this study examined the implementation of the Loving Support peer counseling program in State and local WIC agencies across the country; the final report on this first phase of the study may be downloaded from http://www.fns.usda.gov/ora/ (see “WIC studies”). This second phase is a revision of a currently approved collection which will assess the impact of including in-person peer counseling as part of the Loving Support program on breastfeeding outcomes for WIC participants.

DATES: Written comments should be received on or before May 10, 2011 to be assured of consideration.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steve Carlson, Director, Office of Research and Analysis, Food and Nutrition Service, U.S. Department of Agriculture, 3101 Park Center Drive, Room 1014, Alexandria, VA 22302. Comments may also be submitted via fax to the attention of Steve Carlson at 703-305-2576 or via e-mail to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at, 3101 Park Center Drive, Room 1014, Alexandria, Virginia 22302. All electronic comments can be viewed through http://www.regulations.gov.

All responses to this notice will be summarized and included in the request for OMB approval. All comments will be a matter of public record.

FOR FURTHER INFORMATION CONTACT: Requests for additional information or copies of this information collection should be directed to Steve Carlson at 703-305-2017.

SUPPLEMENTARY INFORMATION: Title: WIC Breastfeeding Peer Counseling Study.

OMB Approval Number: 0584-0548.

Expiration Date: 7/31/2011.

Type Of Request: Revision of a currently approved collection.

Abstract: Beginning in Fiscal Year (FY) 2004 and continuing through to the present, Congress appropriated about $15 million per year for States to support breastfeeding peer counseling in the Special Supplemental Nutrition Program for Women, Infants and Children (WIC); in FY2010 Congress increased this amount to $80 million per year. Prior research has suggested that peer counseling may increase breastfeeding duration rates and is associated with positive outcomes in groups that have proven difficult for WIC to support in the initiation and continuation of breastfeeding. The first phase of the WIC Breastfeeding Peer Counseling study, published in spring 2010, developed a comprehensive and detailed picture of how the Loving Support Peer Counseling Program was implemented in States and local WIC agencies (LWAs) throughout the country. One important finding of this first phase was that there is variation in the implementation of the Loving Support peer counseling program in local WIC agencies, particularly variation in the frequency, timing and location of in-person peer counseling offered to WIC participants pre- and post-partum. The proposed second phase of the study will examine how specific variations in implementing peer counseling using the Loving Support model affect breastfeeding outcomes. Up to eight local WIC agencies will be invited to participate in this phase of the study. From these eight local WIC agencies, approximately 1,800 first-time expectant mothers who certify for WIC benefits and sign-up to receive peer counseling will be randomly assigned to one of two conditions: a control group of 900 will receive their local WIC agency's regular Loving Support peer counseling services; a treatment group of 900 will be offered Loving Support peer counseling services that more strongly emphasizes in-person contact with peer counselors than the agency's regular Loving Support program. In particular, women in the treatment group will be offered in-person peer counseling during the first ten days after giving birth.

Affected Public: Individual/Household, State, Local and Tribal Government. The proposed data collection activities will require two types of respondent groups: staff at the participating local WIC agencies; and individual WIC participants who consent to participate in the study. Multiple respondents from the participating local WIC agencies may be required to complete each data collection instrument to be used with local WIC agency staff. These respondents will include the local WIC director, breastfeeding and peer counseling coordinators, peer counselors, and the local WIC agency database manager, as well as individual WIC participants who consent to participate in the study.

Estimated Number of Respondents: The maximum total estimated number of respondents is 2,110. This total includes eight local WIC Peer Counseling Coordinators who will participate in two interviews and complete ten progress reporting forms, one per month for ten months. The Coordinators will be assisted by eight local WIC directors, eight local WIC breastfeeding coordinators, and eight local WIC database managers. Up to 64 Peer Counselors (roughly eight per participating local WIC agency) will complete a background questionnaire and participate in an individual interview (or will complete the interview as part of a focus group). Finally, assuming a 100% response rate, 1,800 WIC participants will participate in two telephone-administered questionnaires.

Number of Responses per Respondent: The local WIC Peer Counseling Coordinators at each participating WIC agency will participate in two interviews, assisted by their local WIC agency's director, breastfeeding coordinator, and database manager. Each local WIC Peer Counseling Coordinator will provide ten responses on a progress reporting form with the assistance of their local WIC agency's database manager. Up to 64 Peer Counselors (roughly eight per local WIC site) will complete a background questionnaire and participate in an interview. Each WIC participant will respond to two telephone-administered questionnaires.

Estimated Total Annual Responses per Respondent: 3,958.

Estimated Total Annual Burden on Respondents: 1,648 hours.

Estimated Time per Response: 0.42 of an hour or 25 minutes.

FNS estimates that a total reporting and recordkeeping burden of 1,655 hours will result from activities to implement the data collection instruments. The estimated average response time is 0.42 of an hour or 25 minutes. See Table 1 below for the estimated total burden for each type of respondent by instrument type.

Table 1
Affected public | Respondent type | Instrument | Number respondents | Avg. number responses per respondent | Total annual responses | Hours per response | Total burden
State, Local and Tribal Government | Local WIC Agency Director | Interview | 8 | 2.00 | 16.00 | 0.50 | 8.00
| (non-response) | Pre-screening | 2 | 1.00 | 2.00 | 0.0835 | 0.17
| Local WIC Breastfeeding Coordinator | Interview | 8 | 2.00 | 16.00 | 1.00 | 16.00
| (non-response) | Interview | 2 | 1.00 | 2.00 | 0.0835 | 0.17
| Local Peer Counseling Coordinator | Interview | 8 | 2.00 | 16.00 | 2.00 | 32.00
| (non-response) | Pre-screening | 2 | 1.00 | 2.00 | 0.0835 | 0.17
| Local Peer Counseling Coordinator | Progress Reporting Form | 8 | 10.00 | 80.00 | 3.00 | 240.00
| Local WIC Agency Database Manager | Interview | 8 | 1.00 | 8.00 | 0.50 | 4.00
| (non-response) | Pre-screening | 2 | 1.00 | 2.00 | 0.0835 | 0.17
| Local WIC Agency Database Manager | Progress Reporting Form | 8 | 10.00 | 80.00 | 0.50 | 40.00
| Peer Counselor | Interview | 64 | 1.00 | 64.00 | 1.50 | 96.00
| (non-response) | Pre-screening | 6 | 1.00 | 6.00 | 0.0835 | 0.50
| Peer Counselor | Questionnaire | 64 | 1.00 | 64.00 | 0.25 | 16.00
Total SA Reporting burden |  |  | 110 | 3.25 | 358.00 | 1.22 | 436.67
Individual/Household | WIC Participant | Questionnaire | 1,800 | 2.00 | 3,600.00 | 0.334 | 1,202.40
| (non-response) | Pre-screening | 200 | 1.00 | 200.00 | 0.0835 | 16.70
Total I/H Burden |  |  | 2,000.00 | 1.90 | 3,800.00 | 0.32 | 1,219.10
Total burden |  |  | 2,110.00 | 1.88 | 3,958.00 | 0.42 | 1,655.77

Dated: March 4, 2011.
Julia Paradis,
Administrator, Food and Nutrition Service.

[FR Doc. 2011-5624 Filed 3-10-11; 8:45 am]

BILLING CODE 3410-30-P